NATIONAL TRANSPORTATION SAFETY BOARD

[Docket No.: NTSB-2021-0007]

Privacy Act of 1974; System of Records

AGENCY: National Transportation Safety Board (NTSB).

ACTION: Notice of new system of records.

SUMMARY: The National Transportation Safety Board (NTSB) proposes adding a new system of records to its inventory of system of records: Religious Accommodation Request Records. Subject to the Privacy Act of 1974, the agency proposes this new system for reasonable accommodations from prospective, current, and former NTSB employees who request or receive accommodations for sincerely held religious beliefs, practices, or observances.

DATES: This system is effective on November 15, 2021, with the exception of the routine uses which will be effective on December 15, 2021. Submit written comments by December 15, 2021.

ADDRESSES: You may send comments, identified by Docket Number (No.) NTSB-2021-0007, by any of the following methods:

• Federal e-Rulemaking Portal: https://www.regulations.gov.

• Email: rulemaking@ntsb.gov.

• Fax: 202-314-6090.

• Mail/Hand Delivery/Courier: NTSB, Office of General Counsel, 490 L'Enfant Plaza East SW, Washington DC 20594.

Instructions: All submissions in response to this Notice must include Docket No. NTSB-2021-0007. All comments received will be posted without change to https://www.regulations.gov, including any personal information provided.

Docket: For access to the docket, including comments received, go to https://www.regulations.gov and search under Docket No. NTSB-2021-0007.

FOR FURTHER INFORMATION CONTACT: Kathleen Silbaugh, General Counsel, (202) 314-6080, rulemaking@ntsb.gov.

SUPPLEMENTARY INFORMATION: In light of the September 9, 2021, Executive Order (E.O.) 14043 (Requiring Coronavirus Disease 2019 Vaccination for Federal Employees) and October 2021 guidance from the Safer Federal Workforce Task Force, the NTSB proposes adding a new system of records to its inventory of system of records titled, “Religious Accommodation Request Records.” The agency proposes this new system for information from prospective, current, and former NTSB employees who request or receive accommodations for sincerely held religious beliefs, practices, or observances.

SYSTEM NAME AND NUMBER:

Religious Accommodation Request Records. NTSB-34.

SECURITY CLASSIFICATION:

Unclassified.

SYSTEM LOCATION:

Records regarding prospective and current NTSB employees are located at: National Transportation Safety Board, 490 L'Enfant Plaza SW, Washington, DC 20594. Records regarding former NTSB employees who have not transferred to another Federal agency are located at the National Personnel Records Center, National Archives and Records Administration, 111 Winnebago Street, St. Louis, Missouri 63118.

SYSTEM MANAGER:

Director, Office of Equal Employment Opportunity, Diversity and Inclusion, National Transportation Safety Board, 490 L'Enfant Plaza East SW, Washington, DC 20594.

AUTHORITY FOR MAINTENANCE OF THE SYSTEM:

5 U.S.C. 1302; 5 U.S.C. 301; 42 U.S.C. 2000e et seq.; 42 U.S.C. 2000bb et seq.; 44 U.S.C. 3101; 29 CFR part 1614; and E.O. 14043 (Sept. 9, 2021).

PURPOSE(S) OF THE SYSTEM:

This system of records contains information from prospective, current, and former NTSB employees who request or receive accommodations for sincerely held religious beliefs, practices, or observances. The NTSB maintains the records in this system to track and report the processing of requests for religious accommodations to comply with applicable laws and regulations and to preserve and maintain the confidentiality of religious information submitted by or on behalf of applicants or employees requesting an accommodation.

CATEGORIES OF INDIVIDUALS COVERED BY THE SYSTEM:

Prospective, current, and former NTSB employees who request and/or receive a reasonable accommodation for a sincerely held religious belief, practice, or observance; and authorized individuals or representatives (e.g., family members or attorneys) who file a request for a religious accommodation on behalf of a prospective, current, or former employee.

CATEGORIES OF RECORDS IN THE SYSTEM:

Name and employment information of employees needing an accommodation; requestor's name and contact information (if different than the employee who needs an accommodation); date request was initiated; information concerning the nature of the sincerely held religious belief, practice, or observance and the need for accommodation, including any appropriate documentation; details of the accommodation request, such as: type of accommodation requested, how the requested accommodation would assist in job performance, any additional information provided by the requestor related to the processing of the request, notes from or summaries of the interactive process, whether the request was approved or denied, including any alternative accommodation provided, and whether the accommodation was approved for a trial period; and notification(s) to the employee and his/her supervisor(s) regarding the accommodation.

RECORD SOURCE CATEGORIES:

The individual to whom the record pertains and/or his or her representative; NTSB supervisors and management officials; officials with the NTSB Office of Administration and Human Resources Division and Office of Equal Employment Opportunity, Diversity and Inclusion; other Federal agencies; and religious officials or organizations.

ROUTINE USES OF RECORDS MAINTAINED IN THE SYSTEM, INCLUDING CATEGORIES OF USES AND THE PURPOSES OF SUCH USES:

In addition to the disclosures permitted under subsection (b) of the Privacy Act, the NTSB may disclose information contained in this system of records without the consent of the subject individual if the disclosure is compatible with the purpose for which the record was collected under the following routine uses:

1. Disclosure to the Office of Personnel Management, Department of Labor, Merit Systems Protection Board, Office of the Special Counsel, Equal Employment Opportunity Commission, the Federal Labor Relations Authority (including the General Counsel of the Authority and the Federal Service Impasses Panel), the Federal Mediation and Conciliation Service, the White House and its executive offices, the Center for Disease Control and Prevention, the Department of Health & Human Services, Federal Occupational Health, and the National Institutes of Health, and to an arbitrator, when that agency or office has jurisdiction or oversight over religious accommodation issues, in carrying out their functions, or to obtain advice regarding statutory, regulatory, policy, or other requirements, related to a religious accommodation;

2. Disclosure to other Federal agencies that need the information for an audit or investigation of a civil, criminal, or regulatory violation or potential violation where a record, either on its face or in conjunction with other information, indicates a violation or potential violation of law;

3. Where a contract between an NTSB office and a labor organization recognized under Executive Order No. 11,491 or 5 U.S.C. Chapter 71 provides that the agency will disclose personal records relevant to the organization's mission, the NTSB may disclose records in this system of records to such organization;

4. Disclosure to a private entity with which the NTSB maintains a contractual relationship for the purposes of investigating discrimination claims, engaging in dispute resolution in connection with religious accommodations requests and/or discrimination claims, or collating, analyzing, aggregating or otherwise refining records in this system, where the private entity is subject to a non-disclosure agreement and understands that it must honor Privacy Act safeguards with respect to such records;

5. In the event of litigation where the defendant is (a) the NTSB, any component of the NTSB, or any employee of the NTSB in his or her official capacity; (b) the United States, where the NTSB determines that the claim, if successful, is likely to directly affect the operations of the NTSB or any of its components; or (c) any NTSB employee in his or her individual capacity where the Department of Justice has agreed to represent such employee, the NTSB may disclose such records as it deems relevant and necessary to the Department of Justice or NTSB's outside counsel to enable the NTSB to present an effective defense, provided such disclosure is compatible with the purpose for which the records were collected;

6. Information may be disclosed to a congressional office from the record of an individual in response to an inquiry from the congressional office made at the written request of the individual about whom the record is maintained. The NTSB will not make such a disclosure until the congressional office has furnished appropriate documentation of the individual's request, such as a copy of the individual's written request;

7. To appropriate agencies, entities, and persons when (1) the NTSB suspects or has confirmed that there has been a breach of the system of records, (2) the NTSB has determined that as a result of the suspected or confirmed breach there is a risk of harm to individuals, the NTSB (including its information systems, programs, and operations), the Federal Government, or national security; and (3) the disclosure made to such agencies, entities, and persons is reasonably necessary to assist in connection with the NTSB's efforts to respond to the suspected or confirmed breach or to prevent, minimize, or remedy such harm;

8. To another Federal agency or Federal entity, when the NTSB determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

The NTSB maintains the records in this system on paper within file folders and electronically, including on computer databases.

POLICIES AND PRACTICES FOR RETRIEVAL OF RECORDS:

These records are indexed by employee or applicant name or the applicable NTSB office.

POLICIES AND PRACTICES FOR RETENTION AND DISPOSAL OF RECORDS:

Religious Accommodation Request Records are maintained in accordance with General Records Schedule 2.3 (April 2020).

ADMINISTRATIVE, TECHNICAL, AND PHYSICAL SAFEGUARDS:

The NTSB maintains paper records within this system in a locked file room that is restricted through electronic keycards to enter the area where records are located. Access to and use of these records is limited to those persons whose official duties require such access, and the Facility Security Access Control System (NTSB-24) logs the date and time that each electronic keycard was used to enter the location. Electronic records are stored on protected computer networks that are accessible by authorized users with PIV cards and/or secure passwords. This system conforms to all applicable Federal laws and regulations, as well as NTSB policies and standards, as they relate to information security and data privacy. In this regard, the following laws and regulations may apply: the Privacy Act of 1974; the Federal Information Security Management Act of 2002; the Computer Fraud and Abuse Act of 1986; the E-Government Act of 2002; and corresponding regulations implementing these statutes.

RECORD ACCESS PROCEDURE:

Same as “Notification Procedure.”

CONTESTING RECORD PROCEDURE:

Same as “Notification Procedure.”

NOTIFICATION PROCEDURES:

Individuals wishing to inquire about whether this system of records contains information about them may contact the Chief, Records Management Division, National Transportation Safety Board, 490 L'Enfant Plaza East SW, Washington, DC 20594. Individuals must comply with NTSB regulations regarding the Privacy Act, at 49 CFR part 802, and must furnish the following information for their records to be located and identified:

1. Full name(s);

2. Dates of employment, NTSB service, or application; and

3. Signature.

EXEMPTIONS PROMULGATED FOR THE SYSTEM:

None.

HISTORY:

None.

Jennifer Homendy,
Chair.

[FR Doc. 2021-24767 Filed 11-12-21; 8:45 am]

BILLING CODE 7533-01-P